DEPARTMENT OF JUSTICE

Notice of Lodging of Proposed Consent Decree Under the Clean Water Act

On August 10, 2021, the Department of Justice filed a complaint and lodged a proposed consent decree with the United States District Court for the District of Colorado in the lawsuit entitled United States v. Noble Energy, Inc., Noble Midstream Partners LP, and Noble Midstream Services, LLC, Civil Action No. 1:21-cv-2165.

This is a civil action for injunctive relief and civil penalties brought against Noble Energy, Inc., Noble Midstream Partners LP, and Noble Midstream Services, LLC under the Clean Water Act. The violations include an unauthorized discharge of oil from a former Noble Energy, Inc. tank battery known as the State M36 into the Cache la Poudre River and its adjoining shorelines in May and/or June 2014 during a flood event in Weld County, Colorado. The violations also include failure to comply with regulations issued to prevent and respond to oil spills at the Noble State M36 facility and at a midstream central gathering facility in Weld County, Colorado, known as the Wells Ranch Facility. The Consent Decree requires Defendants to perform injunctive relief and pay a total civil penalty of $1,000,000.

The publication of this notice opens a period for public comment on the proposed consent decree. Comments should be addressed to the Assistant Attorney General, Environment and Natural Resources Division and should refer to United States v. Noble Energy, Inc., Noble Midstream Partners LP, and Noble Midstream Services, LLC, D.J. Ref. No. 90-5-1-1-11791. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $10.25 (25 cents per page reproduction cost) payable to the United States Treasury. For a paper copy without the exhibits and signature pages, the cost is $8.00.

Susan Akers,
Assistant Section Chief, Environmental Enforcement Section, Environment and Natural Resources Division.

[FR Doc. 2021-17493 Filed 8-13-21; 8:45 am]

BILLING CODE 4410-15-P